DEPARTMENT OF HEALTH AND HUMAN SERVICES

Centers for Disease Control and Prevention

Agency for Toxic Substances and Disease Registry

[Program Announcement 04004]

Public Health Conference Grant Program; Notice of Availability of Funds Amendment

A notice announcing the availability of Fiscal Year 2004 funds to fund a Grant Agreement to Support Public Health Conference Support Grant Agreement published in the Federal Register on August 28, 2003, Volume 68, Number 167, pages 51781-51785. The notice is amended as follows: On page 51782, first column, under Section B. Purpose, second paragraph, the sentence, “Conferences on Access to Quality Health Services, Family Planning, Food Safety, Health Communications, Medical Product Safety, Substance Abuse, and Vision and Hearing, are not priority focus areas of CDC or ATSDR, and should be directed to other Federal Agencies” should be removed.

Dated: September 4, 2003.
Sandra R. Manning, CGFM,
Director, Procurement and Grants Office, Centers for Disease Control and Prevention.

[FR Doc. 03-23156 Filed 9-10-03; 8:45 am]

BILLING CODE 4163-18-P